DEPARTMENT OF THE INTERIOR

Bureau of Land Management

[20X.LLAK930100 L510100000.ER0000]

Notice of Availability of the Supplement to the Willow Master Development Plan Draft Environmental Impact Statement, Alaska

AGENCY: Bureau of Land Management, Interior.

ACTION: Notice of availability.

SUMMARY: In accordance with the National Environmental Policy Act of 1969, as amended, and the Federal Land Policy and Management Act of 1976, as amended, the Bureau of Land Management (BLM) has prepared a Supplement to the Draft Environmental Impact Statement (EIS) for the Willow Master Development Plan (MDP), and by this notice is announcing the opening of the comment period. The BLM is also announcing that it will hold public meetings and a subsistence-related hearing to receive comments on the Supplement to the Draft EIS and the proposed project's potential to impact subsistence resources and activities.

DATES: To ensure that comments will be considered, the BLM must receive written comments on the Willow MDP Supplement to the Draft EIS by May 4, 2020. The BLM will hold public meetings and dates, times, and locations will be announced at least 15 days in advance on the project website, as well as through public notices, media releases, social media posts, and mailings.

ADDRESSES: You may submit comments related to the Willow MDP Supplement to the Draft EIS by any of the following methods:

• Website: http://www.blm.gov/alaska/WillowEIS.

• Mail: Willow DEIS Comments, BLM Alaska State Office, 222 W 7th Ave. #13, Anchorage AK 99513.

Hand Deliver: BLM Alaska State Office, 222 W 7th Ave. #13, Anchorage AK 99513.

You may also request to be added to the mailing list for the EIS. Documents pertaining to this supplement to the Draft EIS may be examined at http://www.blm.gov/alaska/WillowEIS or at or at the BLM Alaska State Office, BLM Alaska Public Information Center (Public Room), 222 West 7th Avenue (First Floor), Anchorage, Alaska, or the Arctic District Office, 222 University Avenue, Fairbanks, Alaska.

FOR FURTHER INFORMATION CONTACT: Racheal Jones, Willow EIS Project Manager, telephone: 907-290-0307; email: rajones@blm.gov. Persons who use a telecommunications device for the deaf (TDD) may call the Federal Relay Service (FRS) at 1-800-877-8339 to contact the above individual during normal business hours. The FRS is available 24 hours a day, 7 days a week, to leave a message or question with Ms. Jones. You will receive a reply during normal business hours.

SUPPLEMENTARY INFORMATION: The Willow MDP Draft EIS was published on August 23, 2019. The Draft EIS analyzed one No Action Alternative (Alternative A), three action alternatives (Alternatives B, C, and D), and two module delivery options (Options 1 and 2), to support a new development (Project) proposed by ConocoPhillips Alaska, Inc. on Federal oil and gas leases in the northeast area of the National Petroleum Reserve-Alaska. This targeted Supplement to the Draft EIS only addresses additional analysis for three Project components added by the Project proponent: Module delivery Option 3, a constructed freshwater reservoir, and up to three boat ramps for subsistence access.

Section 810 of the Alaska National Interest Lands Conservation Act requires the BLM to evaluate the effects of the alternatives presented in the Willow MDP Draft EIS on subsistence activities, and to hold public hearings if it finds that any alternatives may significantly restrict subsistence users. The preliminary evaluation of subsistence impact indicates that the alternatives analyzed in the Willow MDP Draft EIS and the associated cumulative impacts may significantly restrict subsistence uses for multiple communities along the North Slope. Therefore, the BLM will hold public hearings on subsistence resources and activities. Dates and times will be announced at least 15 days in advance on the project website, as well as through public notices, media releases, social media posts, and mailings.

(Authority: 40 CFR 1506.6(b))

Chad B. Padgett,
State Director, Alaska.

[FR Doc. 2020-06262 Filed 3-25-20; 8:45 am]

BILLING CODE 4310-JA-P